DEPARTMENT OF HOUSING AND URBAN DEVELOPMENT

[Docket No. FR-6450-D-01]

Delegation of Authority for the Office of Departmental Equal Employment Opportunity

AGENCY: Office of the Secretary, Department of Housing and Urban Development (HUD).

ACTION: Notice of delegation of authority.

SUMMARY: In this notice, the Secretary of HUD delegates concurrent authority to the Director and Deputy Director of the Office of Departmental Equal Employment Opportunity (ODEEO) with respect to all matters pertaining to the work of ODEEO and supersedes any prior delegation of authority for ODEEO including the delegation of authority published in the Federal Register on June 22, 2011.

DATES: This delegation of authority is effective March 21, 2024.

FOR FURTHER INFORMATION CONTACT: Wayne Williams, Director, Office of Departmental Equal Employment Opportunity, Department of Housing and Urban Development, Room 2134, 451 7th Street SW, Washington, DC 20410-6000, telephone number 202-402-4053. (This is not a toll-free number.) HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: For HUD, a commitment to equal opportunity is fundamental, not only relative to the public's expectations of fair housing without discrimination, but also to HUD's employment of a workforce that reflects the communities it serves. HUD remains committed to building a leading equal employment opportunity (EEO) program. Section 1614.102 of title 29, Code of Federal Regulations requires that the agency's EEO program be organized and structured to maintain a workplace that is free from discrimination in any of the agency's policies, procedures, or practices. It also provides that the EEO program supports the agency's strategic mission and that the ODEEO Director be under the direct supervision of the agency head. The ODEEO Director, Deputy Director, and other ODEEO professional staff that are responsible for EEO programs must have regular and effective means of informing the agency head and senior management officials of the status of EEO programs and must be involved in, and consulted on, management/personnel actions.

Section A. Authority Delegated

The Secretary hereby delegates to the Director and Deputy Director of ODEEO concurrent authority and responsibility to promulgate and implement all policies, procedures, and practices to operate a model EEO program. The Secretary may revoke the authority authorized herein, in whole or part, at any time.

Section B. Authority Excepted

The authority delegated in this document does not include the authority to sue or be sued or to issue or waive regulations.

Section C. Authority To Redelegate

The authority delegated in this document may be redelegated.

Section D. Authority Superseded

This Delegation of Authority supersedes all prior delegations of authority for ODEEO including the delegation of authority published in the Federal Register on June 22, 2011 (76 FR 36567).

Authority: Section 7(d) of the United States Department of Housing and Urban Development Act, 42 U.S.C. 3535(d).

Dated: March 21, 2024.
Marcia L. Fudge,
Secretary.

[FR Doc. 2024-06471 Filed 3-26-24; 8:45 am]

BILLING CODE 4210-67-P